DEPARTMENT OF STATE

[Public Notice 10051]

E.O. 13224 Designation of Mohammad Yusuf Shah, aka Mohd Yusuf Shah, aka Mohammad Yousuf Shah, aka Mohd Yousuf Shah, aka Mohd Yosuf Shah, aka Mohammed Yusaf Shah, aka Syed Mohammed Yusuf Shah, aka Syed Salahuddin, aka Syed Salahudin, aka Sayeed Salahudeen, aka Peer Sahib, aka Salauddin as a Specially Designated Global Terrorist

Acting under the authority of and in accordance with section 1(b) of Executive Order 13224 of September 23, 2001, as amended by Executive Order 13268 of July 2, 2002, and Executive Order 13284 of January 23, 2003, I hereby determine that the person known as Mohammad Yusuf Shah, also known as Mohd Yusuf Shah, also known as Mohammad Yousuf Shah, also known as Mohd Yousuf Shah, also known as Mohd Yosuf Shah, also known as Mohammed Yusaf Shah, also known as Syed Mohammed Yusuf Shah, also known as Syed Salahuddin, also known as Syed Salahudin, also known as Sayeed Salahudeen, also known as Peer Sahib, also known as Salauddin committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: June 26, 2017.
Rex Tillerson,
Secretary of State.

[FR Doc. 2017-13786 Filed 6-29-17; 8:45 am]

BILLING CODE 4710-AD-P